DEPARTMENT OF THE INTERIOR

Bureau of Land Management

[WO-260-09-1060-00-24 1A]

Notice of Renewal of the Wild Horse and Burro Advisory Charter

AGENCY: Bureau of Land Management, Interior.

ACTION: Notice of renewal.

SUMMARY: This notice is published in accordance with section 9(a)(2) of the Federal Advisory Committee Act of 1972 (5 U.S.C. App.). Pursuant to section 7 of the Wild Free-Roaming Horse and Burro Act (Public Law 92-195), notice is hereby given that the Secretary of the Interior and the Secretary of Agriculture are renewing the existing Wild Horse and Burro Advisory Board for August 26, 2002, through June 30, 2004.

ADDRESSES: Wild Horse and Burro Group, WO-260, Bureau of Land Management, Department of the Interior, 1849 C St., NW. MS: 204LS, Washington, DC 20240.

SUPPLEMENTARY INFORMATION: The purpose of the Wild Horse and Burro Advisory Board is to provide advice concerning management, protection, and control of wild free-roaming horses and burros on the public lands administered by the Department of the Interior, through the Bureau of Land Management, and the Department of Agriculture, through the Forest Service.

The Board will meet no less than two times annually. Additional meetings may be called by the Director, Bureau of Land Management, in connection with special needs for advice.

FOR FURTHER INFORMATION CONTACT: John E. Fend, Group Manager, Wild Horse and Burro Program at (202) 452-0379.

Dated: July 26, 2002.
Sharon L. Kipping,
Acting Group Manager, Wild Horse and Burro Group.

[FR Doc. 02-19351 Filed 7-30-02; 8:45 am]

BILLING CODE 4310-84-P